DEPARTMENT OF TRANSPORTATION

Federal Aviation Administration

14 CFR Part 39

[Docket No. FAA-2021-0190; Project Identifier AD-2020-01348-T; Amendment 39-21479; AD 2021-07-02]

RIN 2120-AA64

Airworthiness Directives; The Boeing Company Airplanes

AGENCY: Federal Aviation Administration (FAA), DOT.

ACTION: Final rule; request for comments.

SUMMARY: The FAA is adopting a new airworthiness directive (AD) for certain The Boeing Company Model 737-200 series airplanes. This AD was prompted by reports indicating that the pitot heat switch is not always set to ON, which could result in misleading air data. This AD requires replacement of pitot anti-icing system components, installation of a junction box and wiring provisions, repetitive testing of the anti-icing system, and applicable on-condition actions. The FAA is issuing this AD to address the unsafe condition on these products.

DATES: This AD is effective April 20, 2021.

The Director of the Federal Register approved the incorporation by reference of a certain publication listed in this AD as of April 20, 2021.

The Director of the Federal Register approved the incorporation by reference of certain other publications listed in this AD as of June 26, 2019 (84 FR 23458, May 22, 2019).

The FAA must receive comments on this AD by May 20, 2021.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2021-0190.

Examining the AD Docket

You may examine the AD docket at https://www.regulations.gov by searching for and locating Docket No. FAA-2021-0190; or in person at Docket Operations between 9 a.m. and 5 p.m., Monday through Friday, except Federal holidays. The AD docket contains this final rule, any comments received, and other information. The street address for the Docket Operations is listed above.

FOR FURTHER INFORMATION CONTACT: Jeffrey W. Palmer, Aerospace Engineer, Systems and Equipment Section, FAA, Los Angeles ACO Branch, 3960 Paramount Boulevard, Lakewood, CA 90712-4137; phone: 562-627-5851; fax: 562-627-5210; email: jeffrey.w.palmer@faa.gov.

SUPPLEMENTARY INFORMATION:

Background

The FAA has received reports indicating that the pitot heat switch is not always set to ON, which could result in misleading air data. The failure to activate the manually activated pitot anti-icing system likely resulted in misleading air data that contributed to an accident and three incidents involving Boeing Model 737 airplanes. This condition, if not addressed, could result in the air data sensors not being heated, which could allow ice to form on the sensors and cause erroneous air data. This erroneous air data can lead to loss of crew situational awareness and could ultimately result in the inability to maintain continued safe flight and landing.

FAA's Determination

The FAA is issuing this AD because the agency has determined the unsafe condition described previously is likely to exist or develop in other products of the same type design.

Related Service Information Under 1 CFR Part 51

The FAA reviewed Boeing Alert Service Bulletin 737-30A1064, Revision 2, dated June 26, 2020. The service information describes procedures for replacement and repetitive testing of the P5-9 window and pitot heat module, and changing the anti-icing system to automatically supply power to heat the air data sensors.

This AD also requires Boeing Service Bulletin 737-30-1067, Revision 1, dated May 4, 2017; and Boeing Service Bulletin 737-30-1068, Revision 1, dated May 4, 2017, which the Director of the Federal Register approved for incorporation by reference as of June 26, 2019 (84 FR 23458, May 22, 2019).

This service information is reasonably available because the interested parties have access to it through their normal course of business or by the means identified in the ADDRESSES section.

Minimum Equipment List (MEL) Provision

The FAA allows operators to utilize a MEL provision for time-limited operation with certain equipment inoperative, after which the system must be fully restored. (See 14 CFR 91.213, 121.628, 125.201, and 129.14.) This AD continues to allow use of an existing FAA-approved MEL even if the modified air data probe heat (ADPH) system is inoperable, so long as the operator's existing FAA-approved MEL has a provision to allow for this inoperability.

AD Requirements

This AD requires accomplishing the actions identified as “RC” (required for compliance) in the Accomplishment Instructions of Boeing Alert Service Bulletin 737-30A1064, Revision 2, dated June 26, 2020, described previously, except as discussed under “Differences Between this AD and the Service Information,” and except for any differences identified as exceptions in the regulatory text of this AD.

This AD also requires accomplishing the actions specified in Boeing Service Bulletin 737-30-1067, Revision 1, dated May 4, 2017; and Boeing Service Bulletin 737-30-1068, Revision 1, dated May 4, 2017, described previously.

For information on the procedures and compliance times, see this service information at https://www.regulations.gov by searching for and locating Docket No. FAA-2021-0190.

Differences Between This AD and the Service Information

The FAA previously issued AD 2019-09-01, Amendment 39-19635 (84 FR 23458, May 22, 2019) (AD 2019-09-01), which applies to the airplanes identified in Boeing Alert Service Bulletin 737-30A1064, Revision 1, dated October 18, 2017. This AD requires using Boeing Alert Service Bulletin 737-30A1064, Revision 2, dated June 26, 2020, which adds Model 737-200 series airplanes having variable numbers PK625 through PK627 inclusive to the effectivity. The unsafe condition and requirements are the same for this AD and AD 2019-09-01. This AD therefore applies only to the 737-200 series airplanes having variable numbers PK625 through PK627 inclusive.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

There are currently no U.S.-registered airplanes affected by this AD. Accordingly, notice and opportunity for prior public comment are unnecessary, pursuant to 5 U.S.C. 553(b)(3). In addition, for the foregoing reason(s), the FAA finds that good cause exists pursuant to 5 U.S.C. 553(d) for making this amendment effective in less than 30 days.

Comments Invited

The FAA invites you to send any written data, views, or arguments about this final rule. Send your comments to an address listed under ADDRESSES. Include Docket No. FAA-2021-0190 and Project Identifier AD-2020-01348-T at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Jeffrey W. Palmer, Aerospace Engineer, Systems and Equipment Section, FAA, Los Angeles ACO Branch, 3960 Paramount Boulevard, Lakewood, CA 90712-4137; phone: 562-627-5851; fax: 562-627-5210; email: jeffrey.w.palmer@faa.gov. Any commentary that the FAA receives that is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

Currently, there are no affected U.S.-registered airplanes. For any affected airplane that is imported and placed on the U.S. Register in the future, the FAA provides the following cost estimates to comply with this AD:

Estimated Costs
Action | Labor cost | Parts cost | Cost per product
Replacement (Boeing Alert Service Bulletin 737-30A1064) | 6 work-hours × $85 per hour = $510 | $0 | $510.
Repetitive tests (Boeing Alert Service Bulletin 737-30A1064) | 5 work-hours × $85 per hour = $425 per inspection cycle | 0 | $425 per inspection cycle.
J18 Junction box installation (Boeing Service Bulletin 737-30-1067) | Up to 75 work-hours × $85 per hour = Up to $6,375 | 23,614 | Up to $29,989.
Installation of wire provisions (Boeing Service Bulletin 737-30-1068) | Up to 193 work-hours × $85 per hour = Up to $16,405 | 4,800 | Up to $21,205.

The FAA has received no definitive data that would enable providing cost estimates for the on-condition actions specified in this AD.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-07-02 The Boeing Company: Amendment 39-21479; Docket No. FAA-2021-0190; Project Identifier AD-2020-01348-T.

(a) Effective Date

This airworthiness directive (AD) is effective April 20, 2021.

(b) Affected ADs

None.

(c) Applicability

This AD applies to The Boeing Company Model 737-200 series airplanes, having variable numbers PK625 through PK627 inclusive, certificated in any category.

(d) Subject

Air Transport Association (ATA) of America Code 30, Ice and rain protection.

(e) Unsafe Condition

This AD was prompted by reports indicating that the pitot heat switch is not always set to ON, which could result in misleading air data. The FAA is issuing this AD to address misleading air data, which can lead to loss of crew situational awareness and could ultimately result in the inability to maintain continued safe flight and landing.

(f) Compliance

Comply with this AD within the compliance times specified, unless already done.

(g) Actions for Group 6 Airplanes

Except as specified by paragraph (i) of this AD, for airplanes identified as Group 6 in Boeing Alert Service Bulletin 737-30A1064, Revision 2, dated June 26, 2020: At the applicable times specified in paragraph 1.E., “Compliance,” of Boeing Alert Service Bulletin 737-30A1064, Revision 2, dated June 26, 2020, do all applicable actions identified as “RC” (required for compliance) in, and in accordance with, the Accomplishment Instructions of Boeing Alert Service Bulletin 737-30A1064, Revision 2, dated June 26, 2020.

(h) Concurrent Requirements

Except as specified by paragraph (i) of this AD: Prior to or concurrently with the actions required by paragraph (g) of this AD, install a new J18 junction box to change the anti-icing system, in accordance with the Accomplishment Instructions of Boeing Service Bulletin 737-30-1067, Revision 1, dated May 4, 2017, and install wiring provisions to the anti-icing system, in accordance with the Accomplishment Instructions of Boeing Service Bulletin 737-30-1068, Revision 1, dated May 4, 2017.

(i) Exceptions to Service Information Specifications

(1) Where Boeing Alert Service Bulletin 737-30A1064, Revision 2, dated June 26, 2020, uses the phrase “the Revision 2 date of this service bulletin,” this AD requires using “the effective date of this AD.”

(2) Where Boeing Service Bulletin 737-30-1067, Revision 1, dated May 4, 2017, specifies contacting Boeing for repair instructions: This AD requires doing the repair before further flight using a method approved in accordance with the procedures specified in paragraph (l) of this AD.

(j) Credit for Previous Actions

This paragraph provides credit for the actions specified in paragraph (g) of this AD, if those actions were performed before the effective date of this AD using Boeing Alert Service Bulletin 737-30A1064, Revision 1, dated October 18, 2017, which was incorporated by reference in AD 2019-09-01, Amendment 39-19635, (84 FR 23458, May 22, 2019).

(k) Minimum Equipment List (MEL)

In the event that the air data probe heat (ADPH) system as modified by this AD is inoperable, an airplane may be operated as specified in the operator's existing FAA-approved MEL, provided the operator's existing FAA-approved MEL includes provisions that address the modified ADPH system.

(l) Alternative Methods of Compliance (AMOCs)

(1) The Manager, Los Angeles ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Los Angeles ACO Branch, FAA, to make those findings. To be approved, the repair method, modification deviation, or alteration deviation must meet the certification basis of the airplane, and the approval must specifically refer to this AD.

(4) For service information that contains steps that are labeled as Required for Compliance (RC), the provisions of paragraphs (l)(4)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(m) Related Information

(1) For more information about this AD, contact Jeffrey W. Palmer, Aerospace Engineer, Systems and Equipment Section, FAA, Los Angeles ACO Branch, 3960 Paramount Boulevard, Lakewood, CA 90712-4137; phone: 562-627-5851; fax: 562-627-5210; email: jeffrey.w.palmer@faa.gov.

(2) Service information identified in this AD that is not incorporated by reference is available at the addresses specified in paragraphs (n)(5) and (6) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on April 20, 2021.

(i) Boeing Alert Service Bulletin 737-30A1064, Revision 2, dated June 26, 2020.

(ii) [Reserved]

(4) The following service information was approved for IBR on June 26, 2019 (84 FR 23458, May 22, 2019).

(i) Boeing Service Bulletin 737-30-1067, Revision 1, dated May 4, 2017.

(ii) Boeing Service Bulletin 737-30-1068, Revision 1, dated May 4, 2017.

(5) For service information identified in this AD, contact Boeing Commercial Airplanes, Attention: Contractual & Data Services (C&DS), 2600 Westminster Blvd., MC 110-SK57, Seal Beach, CA 90740-5600; telephone 562-797-1717; internet https://www.myboeingfleet.com.

(6) You may view this service information at the FAA, Airworthiness Products Section, Operational Safety Branch, 2200 South 216th St., Des Moines, WA. For information on the availability of this material at the FAA, call 206-231-3195.

(7) You may view this service information that is incorporated by reference at the National Archives and Records Administration (NARA). For information on the availability of this material at NARA, email fedreg.legal@nara.gov, or go to: https://www.archives.gov/federal-register/cfr/ibr-locations.html.

Issued on March 17, 2021.
Lance T. Gant,
Director, Compliance & Airworthiness Division, Aircraft Certification Service.

[FR Doc. 2021-06896 Filed 4-2-21; 8:45 am]

BILLING CODE 4910-13-P